DEPARTMENT OF JUSTICE

Membership of the 2002 Senior Executive Service Performance Review Boards

AGENCY: Department of Justice

ACTION: Notice of Department of Justice's 2002 Senior Executive Service Performance Review Boards.

SUMMARY: Pursuant to the requirements of 5 U.S.C. 4314(c)(4), the Department of Justice announces the membership of its Senior Executive Service (SES) Performance Review Boards (PRBs). The purpose of the PRBs is to provide fair and impartial review of SES performance appraisals and bonus recommendations. The PRBs will make recommendations regarding the final performance ratings to be assigned and SES bonuses to be awarded.

FOR FURTHER INFORMATION CONTACT: Debra M. Tomchek, Director, Personnel Staff, Justice Management Division, Department of Justice, Washington, DC 20530; (202) 514-6788.

Department of Justice, 2002 Senior Executive Service Performance Review Board Members

Office of the Solicitor General

Lawrence G. Wallace, Deputy Solicitor General

Office of Legal Counsel

Paul P. Colborn, Special Counsel

Office of Professional Responsibility

Judith B. Wish, Deputy Counsel on Professional Responsibility

Office of Intelligence Policy and Review

Robert O. Davis, Deputy Counsel for Intelligence Policy

Office of Policy Development

Kevin R. Jones, Deputy Assistant Attorney General

Office of Information and Privacy

Daniel J. Metcalfe, Director (Policy and Litigation)

Antitrust Division

Norman Familant, Chief, Economic Litigation Section

Roger W. Fones, Chief, Transportation, Energy, and Agriculture Section

Thomas D. King, Executive Officer

J. Robert Kramer, Chief, Litigation II Section

Civil Division

JoAnn J. Bordeaux, Deputy Director, Torts Branch

Jeanne E. Davidson, Deputy Director, Commercial Litigation Branch

Douglas N. Letter, Appellate Litigation Counsel, Appellate Staff

Eugene M. Thirolf, Director, Office of Consumer Litigation

Civil Rights Division

James S. Angus, Deputy Assistant Attorney General

David K. Flynn, Chief, Appellate Section

Albert N. Moskowitz, Chief, Criminal Section

John L. Wodatch, Chief, Disability Rights Section

Criminal Division

Sandra J. Bright, Executive Officer

Joseph E. Gangloff, Senior Counsel, Office of International Affairs

Julie E. Samuels, Director, Office of Policy and Legislation

Patty M. Stemler, Chief Appellate Section

Mary I. Warlow, Director, Office of International Affairs

Mary Lee Warren, Deputy Assistant Attorney General

Environment and Natural Resources Division

Robert L. Bruffy, Executive Officer

Virginia, P. Butler, Chief, Land Acquisition Section

Eileen Sobeck, Deputy Assistant Attorney General

Jean E. Williams, Chief, Wildlife and Marine Resources Section

Justice Management Division

Mary A. Braden, Director, Department Ethics Office

Leon J. Lofthus, Director Finance Staff

Theodius McBurrows, Director, Equal Employment Opportunity Staff

James E. Price, Director, Computer Services Staff

Tax Division

Stephen J. Csontos, Senior Legislative Counsel

David A. Hubert, Chief, Civil Trial Section, Eastern Region

Robert S. Watkins, Chief, Civil Trial Section, Central Region

Joseph E. Young, Executive Officer

Bureau of Prisons

Robin L. Beusse, Chief, Budget Development Administration Division

Joyce K. Conley, Senior Assistant Director, Administration Division

Michael W. Garrett, Senior Deputy Assistant Director, Program Review Division

John C. Hardwick, Deputy Assistant Director, Information, Policy, and Public Affairs

Maryellen Thoms, Assistant Director Health Services Division

John M. Vanyur, Senior Deputy Assistant Director, Correctional Programs Division

Immigration and Naturalization Service

J. Scott Blackman, Regional Director, Eastern Region

Michael D. Cronin, Assistant Commissioner for Policy and Inspection

Janis A. Sposato, Assistant Deputy Executive Associate Commissioner for Immigration Services

William T. Veal, Chief Patrol Agent, San Diego Sector

William R. Yates, Deputy Executive Associate Commissioner for Immigration Services

David A. Yentzer, Assistant Commissioner, Administration

United States Marshals Service

Gary E. Mead, Assistant Director for Business Services

Office of Justice Programs

Carolyn A. Hightower, Deputy Director, Office for Victims of Crime

Gary N. Silver, Director, Office of Administration

Executive Office of Immigration Review

Charles Adkins-Blanch, General Counsel

Margaret M. Philbin, Deputy Director

Executive Office for United States Attorneys

Steven J. Parent, Deputy Director for Financial Management

Executive Office for United States Trustees

Jeffrey M. Miller, Associate Director

Edward F. Cincinnati, Executive Officer

National Drug Intelligence Center

Michael T. Horn, Director, National Drug Intelligence Center

Valerie M. Willis,
Executive Secretary, Senior Executive Resources Board.

[FR Doc. 02-16218 Filed 6-26-02; 8:45 am]

BILLING CODE 4410-AR-M